DEPARTMENT OF HEALTH AND HUMAN SERVICES

Substance Abuse and Mental Health Services Administration

Fiscal Year (FY) 2022 Notice of Funding Opportunity (NOFO)

AGENCY: Substance Abuse and Mental Health Services Administration, HHS.

ACTION: Notice of intent to award supplemental funding to the Certified Community Behavioral Health Clinic (CCBHC) Expansion (Short Title: CCBHC Expansion Grants) NOFO SM-20-012 grant recipients funded in FY 2020.

SUMMARY: This notice is to inform the public that the Substance Abuse and Mental Health Services Administration (SAMHSA) is supporting administrative supplements (in scope of the parent award) up to $249,999 (total costs) for the 166 CCBHC Expansion grant recipients funded in FY 2020 under the Certified Community Behavioral Health Clinic (CCBHC) Expansion (Title: CCBHC Expansion Grants, NOFO SM-20-012, with a project end date of April 30, 2022) to cover unanticipated costs caused by the COVID-19 pandemic or related mitigation efforts that could not have been covered by rebudgeting existing funds. The supplemental funding is to assist CCBHC Expansion grant recipients that had unplanned administrative, staffing, labor, and other program costs due to the COVID-19 pandemic.

FOR FURTHER INFORMATION CONTACT: Mary Blake, Substance Abuse and Mental Health Services Administration, 5600 Fishers Lane, Rockville, MD 20857, telephone (240) 276-1747; email: mary.blake@samhsa.hhs.gov.

SUPPLEMENTARY INFORMATION: It is expected that recipients of this supplemental funding will provide services and supports consistent with the approved activities in the FY 2020 CCBHC Expansion Grants NOFO SM-20-012 and the majority of funds will be used for services. No more than 15 percent of these funds may be used for infrastructure, supplies, or equipment. SAMHSA expects that this program will improve the behavioral health of individuals across the nation by providing comprehensive community-based mental and substance use disorder services; treatment of co-occurring disorders; advance the integration of behavioral health with physical health care; assimilate and utilize evidence-based practices on a more consistent basis; and promote improved access to high quality care.

Supplemental awards will be prioritized for FY 2020 CCBHC Expansion grant recipients with an unobligated balance of less than $1,000,000 under their current grant.

This is not a formal request for application. Assistance will only be provided to the 166 CCBHC Expansion grant recipients, funded in FY 2020 under NOFO SM-20-012, based on the receipt of a satisfactory application and associated budget that is approved by a review group.

Funding Opportunity Title: FY 2020 CCBHC Expansion Supplemental Funding.

Assistance Listing Number: 93.696.

Authority: Section 520A (42 U.S.C. 290bb-32) of the Public Health Service Act, as amended.

Justification: Eligibility for this supplemental funding is limited to the 166 CCBHC Expansion grant recipients who received funding in FY 2020 under the CCBHC Expansion Grants NOFO SM-20-012. These recipients have experienced unexpected and/or increased costs for program activities and services due to the COVID-19 pandemic. It is expected that this supplemental funding will allow CCBHC Expansion grant recipients to provide the required and approved program activities and services that were affected during the pandemic.

Carlos Graham,
Reports Clearance Officer.

[FR Doc. 2022-05399 Filed 3-14-22; 8:45 am]

BILLING CODE 4162-20-P